FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 12, 2019.

A. Federal Reserve Bank of New York (Ivan Hurwitz, Senior Vice President) 33 Liberty Street, New York, New York 10045-0001. Comments can also be sent electronically to Comments.applications@ny.frb.org:

1. SNBNY Holdings, Gibraltar, Gibraltar; to acquire voting shares of Safra National Bank of New York, New York.

B. Federal Reserve Bank of St. Louis (David L. Hubbard, Senior Manager) P.O. Box 442, St. Louis, Missouri 63166-2034. Comments can also be sent electronically to Comments.applications@stls.frb.org:

1. Boyd Rothwell and Diana Rothwell, Little Rock, Arkansas, individually and as members of a family control group that also includes PRS, LLC, Little Rock, Arkansas and Lois Rothwell, Bush, Louisiana; to retain shares of Capital Bancshares, Inc., Little Rock, Arkansas, and thereby retain shares of Capital Bank, Little Rock, Arkansas.

2. G. Warren Stephenson and Martha Stephenson individually, and as members of a family control group, which also includes PRS, LLC, all of Little Rock, Arkansas; to retain shares of Capital Bancshares, Inc., Little Rock, Arkansas, and thereby retain shares of Capital Bank, Little Rock, Arkansas.

C. Federal Reserve Bank of Minneapolis (Mark A. Rauzi, Vice President), 90 Hennepin Avenue, Minneapolis, Minnesota 55480-0291:

1. Joseph W. Bosshard, Boulder, Colorado, Makenzie B. Bosshard, Minneapolis, Minnesota, Carlista M. Bosshard, Auburn Alabama, and John Bosshard, Chicago, Illinois, for approval to retain shares of Bosshard Banco, Ltd., La Crosse, Wisconsin (Bosshard Banco) and join the Bosshard Family Group that controls Bosshard Banco. In addition, Andrew R. Bosshard, La Crosse, Wisconsin; to acquire additional shares and retain shares of Bosshard Banco, and thereby retain and acquire shares of First National Bank of Bangor, Wisconsin, and Intercity State Bank, Schofield, Wisconsin.

D. Federal Reserve Bank of Dallas (Robert L. Triplett III, Senior Vice President) 2200 North Pearl Street, Dallas, Texas 75201-2272:

1. Lonnie Ken Pilgrim, individually and as trustee of the The Lonnie Ken Pilgrim 2003 GST Trust, The Lonnie Ken Pilgrim 1999 Issue Trust, The LKP 2012 GST Trust, The Greta Pilgrim Owens 2003 GST Trust, The Greta Pilgrim Owens 1999 Issue Trust, and The GPO 2012 Trust, Pittsburg, Texas; Steve Capps, individually and as trustee of the The Lonnie Ken Pilgrim 2003 GST Trust, The Lonnie Ken Pilgrim 1999 Issue Trust, The LKP 2012 GST Trust, The Greta Pilgrim Owens 2003 GST Trust, The Greta Pilgrim Owens 1999 Issue Trust, and The GPO 2012 Trust, Mount Pleasant, Texas; Lanny Brenner, as trustee of the The Lonnie Ken Pilgrim 2003 GST Trust, The Lonnie Ken Pilgrim 1999 Issue Trust, The LKP 2012 GST Trust, The Greta Pilgrim Owens 2003 GST Trust, The Greta Pilgrim Owens 1999 Issue Trust, and The GPO 2012 Trust, Pittsburg, Texas; Greta Pilgrim Henson, Dallas, Texas; Greta Gail Pilgrim Simpson, Tyler, Texas; and Lonnie Jaggers Pilgrim, Mount Vernon, Texas, as a group acting in concert; to retain shares of Pilgrim Bancorporation, Mount Pleasant, Texas, and indirectly retain shares of Pilgrim Bank, Pittsburg, Texas.

Board of Governors of the Federal Reserve System, March 21, 2019.
Yao-Chin Chao,
Assistant Secretary of the Board.

[FR Doc. 2019-05773 Filed 3-26-19; 8:45 am]

BILLING CODE P